ENVIRONMENTAL PROTECTION AGENCY

[EPA-HQ-OAR-2020-0659; FRL-9676-01-OMS]

Information Collection Request Submitted to OMB for Review and Approval; Comment Request; NSPS for Coal Preparation and Processing Plants (Renewal)

AGENCY: Environmental Protection Agency (EPA).

ACTION: Notice.

SUMMARY: The Environmental Protection Agency (EPA) has submitted an information collection request (ICR), NSPS for Coal Preparation and Processing Plants (EPA ICR Number 1062.16, OMB Control Number 2060-0122), to the Office of Management and Budget (OMB) for review and approval in accordance with the Paperwork Reduction Act. This is a proposed extension of the ICR, which is currently approved through May 31, 2022. Public comments were previously requested via the Federal Register on February 8, 2021 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before April 20, 2022.

ADDRESSES: Submit your comments, referencing Docket ID Number EPA-HQ-OAR-2020-0659, online using www.regulations.gov (our preferred method) or by mail to: EPA Docket Center, Environmental Protection Agency, Mail Code 2821T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: Supporting documents, which explain in detail the information that the EPA will be collecting, are available in the public docket for this ICR. The docket can be viewed online at https://www.regulations.gov, or in person, at the EPA Docket Center, WJC West Building, Room 3334, 1301 Constitution Ave. NW, Washington, DC. The telephone number for the Docket Center is 202-566-1744. For additional information about EPA's public docket, visit http://www.epa.gov/dockets.

Abstract: The New Source Performance Standards (NSPS) for Coal Preparation and Processing Plants (40 CFR part 60, subpart Y) regulations apply to existing facilities and new facilities that perform coal preparation and processing with limits more than 181 megagrams (Mg) (200 tons) of coal per day. In general, all NSPS standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NSPS.

Form Numbers: None.

Respondents/affected entities: Owners and operators of coal preparation and processing plants.

Respondent's obligation to respond: Mandatory (40 CFR part 60, subpart Y).

Estimated number of respondents: 377 (total).

Frequency of response: Initially, biannually, annually, semiannually, and quarterly.

Total estimated burden: 22,300 hours (per year). Burden is defined at 5 CFR 1320.3(b).

Total estimated cost: $2,720,000 (per year), which includes $79,300 in annualized capital/startup and/or operation & maintenance costs.

Changes in the Estimates: There is an adjustment decrease in the total estimated burden as currently identified in the OMB Inventory of Approved Burdens; this decrease is not due to any program changes. The decrease in burden is due to more accurate estimates of existing sources, based on information gathered by EPA and confirmed by industry. The burden in this ICR reflects a decrease in the number of coal mines across the industry and a number of coal plants being either shut down or converted to natural gas. The decrease in the number of respondents also results in a decrease in responses. The operation and maintenance costs have increased from the previous ICR due to an incorrect entry of information in the previous ICR. Finally, this ICR corrects the number of occurrences of repeat performance tests for Method 5 and Method 9 per respondent per year from the previous ICR. However, the overall burden still decreased.

Courtney Kerwin,
Director, Regulatory Support Division.

[FR Doc. 2022-05889 Filed 3-18-22; 8:45 am]

BILLING CODE 6560-50-P